PRESIDIO TRUST

Notice of Public Meeting

AGENCY: The Presidio Trust.

ACTION: Notice of public meeting.

SUMMARY: In accordance with § 103(c)(6) of the Presidio Trust Act, 16 U.S.C. 460bb appendix, and in accordance with the Presidio Trust's bylaws, notice is hereby given that a public meeting of the Presidio Trust Board of Directors will be held commencing 6:30 p.m. on Wednesday, September 22, 2010, at the Golden Gate Club, 135 Fisher Loop, Presidio of San Francisco, California. The Presidio Trust was created by Congress in 1996 to manage approximately eighty percent of the former U.S. Army base known as the Presidio, in San Francisco, California.

The purposes of this meeting are to swear in new Board members, to approve minutes of a previous Board meeting, to elect Board officers, to provide an Executive Director's report and status reports on environmental remediation, the Public Health Service District, Doyle Drive and the Main Post, to receive a report on the provision of fire services to the Presidio by the City of San Francisco, to receive reports from the National Park Service and the Golden Gate National Parks Conservancy, to provide a preview of the Trust's fiscal year 2011 projects, and to receive public comment on other matters in accordance with the Trust's Public Outreach Policy.

Individuals requiring special accommodation at this meeting, such as needing a sign language interpreter, should contact Mollie Matull at 415-561-5300 prior to September 13, 2010.

Time: The meeting will begin at 6:30 p.m. on Wednesday, September 22, 2010.

ADDRESSES: The meeting will be held at the Golden Gate Club, 135 Fisher Loop, Presidio of San Francisco.

FOR FURTHER INFORMATION CONTACT: Karen Cook, General Counsel, the Presidio Trust, 34 Graham Street, P.O. Box 29052, San Francisco, California 94129-0052, Telephone: 415-561-5300.

Dated: August 24, 2010.
Karen A. Cook,
General Counsel.

[FR Doc. 2010-21576 Filed 8-30-10; 8:45 am]

BILLING CODE 4310-4R-P